DEPARTMENT OF COMMERCE

Foreign-Trade Zones Board

Change of Address; Submission of Comments

The office of the Foreign-Trade Zones Board staff has moved from the Herbert Clark Hoover Building—Room 4008 to the Franklin Court Building—Suite 4100W. Submissions to the Board should hereafter be directed to one of the addresses described below:

1. Submissions Via Express/Package Delivery Services: Foreign-Trade-Zones Board, U.S. Department of Commerce, Franklin Court Building—Suite 4100W, 1099 14th St. NW., Washington, D.C. 20005; or

2. Submissions Via the U.S. Postal Service: Foreign-Trade-Zones Board, U.S. Department of Commerce, FCB—Suite 4100W, 1401 Constitution Ave. NW., Washington, D.C. 20230.

Dated: August 31, 2001.
Dennis Puccinelli,
Executive Secretary.

[FR Doc. 01-22418 Filed 9-5-01; 8:45 am]

BILLING CODE 3510-DS-P